DEPARTMENT OF THE INTERIOR

Bureau of Land Management

[MT-924-1430-ET; MTM 024829]

Public Land Order No. 7440; Revocation of Department of the Air Force Withdrawals; Montana

AGENCY: Bureau of Land Management, Interior.

ACTION: Public land order.

SUMMARY: This order revokes, in their entirety, two public land orders which withdrew public lands for the use of the United States Air Force for military and communication site purposes. The lands are no longer needed for military purposes and the revocation is needed to permit development of a recreation area and interpretative site. This action will open 66.37 acres to surface entry, mining, and mineral leasing. The lands have been and will remain open to disposal of mineral materials under the Act of July 31, 1947, 30 U.S.C. 601-604 (1994).

EFFECTIVE DATE: May 12, 2000.

FOR FURTHER INFORMATION CONTACT: Sandra Ward, BLM Montana State Office, P.O. Box 36800, Billings, Montana 59107, 406-896-5052.

By virtue of the authority vested in the Secretary of the Interior by Section 204 of the Federal Land Policy and Management Act of 1976, 43 U.S.C. 1714 (1994), it is ordered as follows:

1. Public Land Order No. 1758 and Public Land Order No. 2186, as corrected by Public Land Order No. 2230, which withdrew public lands for use of the Department of the Air Force for military and communication site purposes, are hereby revoked in their entirety:

Principal Meridian, Montana

T. 17 N., R. 20 E.,

Sec. 19, NE¼, that part described as beginning at a point which is S. 23°13′33″ E., 6880.73 feet from the northwest corner of sec. 18, T. 17 N., R. 20 E., thence N. 37°16′10″ W., 65.56 feet; N. 52°43′50″ E., 100.00 feet; S. 37°16′10″ E., 30.00 feet to a point which is S. 24°01′12″ E., 6826.53 feet from the northwest corner of sec. 18; S. 37°16′10″ E., 70.00 feet; S. 52°43′50″ W., 100.00 feet; N. 37°16′10″ W., 34.44 feet to the point of beginning. S½, that part described as beginning at a point N. 16°27′ W., 1314.22 feet from the southeast corner of said sec. 19, thence S. 0°12′ W., 118.97 feet; N. 89°48′ W., 624.26 feet; N. 44°48′ W., 323.12 feet; N. 89°48′ W., 157.00 feet; S. 58°12′ W., 338.35 feet; N. 89°48′ W., 503.00 feet; S. 72°12′ W., 508.00 feet; N. 89°48′ W., 420.00 feet; N. 65°48′ W., 433.76 feet; N. 0°12′ E., 535.00 feet; N. 59°12′ E., 540.00 feet; S. 77°48′ E., 535.00 feet; N. 73°12′ E., 692.00 feet; S. 89°48′ E., 830.00 feet; S. 0°12′ W., 188.48 feet; S. 89°48′ E., 621.67 feet; S. 0°12′ W., 790.00 feet to the point of beginning.

Sec. 20, NE¼NE¼, that part described as follows: Tract No. F, Part 1: Beginning at a point N. 44°22′00″ E., 5986.83 feet from the southwest corner of said sec. 20; thence N. 8°16′30″ W., 298.00 feet; N. 81°43′30″ E., 796.60 feet; S. 8°16′30″ E., 320.00 feet; S. 81°43′30″ W., 496.60 feet; S. 8°16′30″ E., 100.00 feet; S 81°43′30″ W., 300.00 feet; N. 8°16′30″ W., 122.00 feet to the point of beginning.

The areas described aggregate 66.37 acres in Fergus County.

2. At 9 a.m. on May 12, 2000, the lands shall be opened to the operation of the public land laws generally, subject to valid existing rights, the provisions of existing withdrawals, other segregations of record, and the requirements of applicable law. All valid applications received at or prior to 9 a.m. on May 12, 2000, shall be considered as simultaneously filed at that time. Those received thereafter shall be considered in the order of filing.

3. At 9 a.m. on May 12, 2000, the lands shall be opened to location and entry under the United States mining laws and to the operation of the mineral leasing laws, subject to valid existing rights, the provisions of existing withdrawals, other segregations of record, and the requirements of applicable law. Appropriation of any lands described in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: March 20, 2000.
Sylvia V. Baca,
Assistant Secretary of the Interior.

[FR Doc. 00-9021 Filed 4-11-00; 8:45 am]

BILLING CODE 4310-DN-P